DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards from 2019 to 2021, which oversee the evaluation of performance appraisals and compensation for Senior Executive Service, Senior Level/Senior Technical, and Title 42 executive equivalent members of the Department of Health and Human Services.

Last name | First name
AGNEW | ANN
ALEXANDER | THOMAS
ALVAREZ | JUAN CARLOS
AMES | KAREN
AMIN | STACY
ANTHONY | ELISE
ARBES | SARAH
ARMSTRONG | REBEKAH
ARNOLD | SHARON
ARRIETA | JOSE
BARRON | PAMELA
BARRY | DANIEL
BELL | THOMAS
BENOR | DAVID
BERGER | DANIEL
BHARGAVA | DEEPAK
BIRD | CATHERINE
BLACKWELL | EDITH
BOWMAN | MATTHEW
BRADY | WILLIAM
BRATCHER-BOWMAN | NIKKI
BROWN | MARK
BUREL | WILLIAM
BURNSZYNSKI | JENNIFER
BUSH | LAINA
CASH | LESTER
CHAMBERS | GEORGE
CHANG | WILLIAM
CLEARY | KELLY
COCHRAN | NORRIS
CONLEY | MARY
CORDOVA | JON
CORMIER | JUSTIN
CRONIN | KELLY
CULPEPPER | MICHAEL
DASHER | DAVID
DAVIS | MICHELLE
DELEW | NANCY
DESTRO | BRENDA
DORN | ALAN
DUNCAN | JAMES
FINK | DOROTHY
FISCHMANN | ELIZABETH
FISHER | BARBARA
FOLEY | DEBORAH
FROHBOESE | ROBINSUE
GABRIEL | EDWARD
GOULDING | MICHAEL
GRAHAM | JOHN
GREENE | JONATHAN
GRIGSBY | GLENN
HALL | WILLIAM
HALL | RANDALL
HARRISON | BRIAN
HASELTINE | AMY
HECHT | JONAH
HOCKER | JULIE
HOFFMAN | JANICE
HOFFMAN | DARRELL
HORN | DAVID
JONES | CHRISTINE
JONES | WANDA
KAPPELER | EVELYN
KECKLER | CHARLES
KERR | LAWRENCE
KOCHER | PAULA
KRETSCHMAIER | A MICHON
LAZARE | MARY
LEIDER | BRENNA
LEWIS | TERESA
LYONS | SUSAN
MANGO | PAUL
MCCABE | WILLIAM
MCDANIEL | EILEEN
MCMILLEN | CHERYL
MILNE | KEVIN
MORAN | THOMAS
MORSE | SARA
MOTSIOPOULOS | CHRISTOS
MOUGHALIAN | JENNIFER
MURPHY | PATRICK
NAIMON | DAVID
NOLAN | JANET
NOONAN | TIMOTHY
NOVY | STEVEN
OWENS | ARNE
PARKER | JAMES
PEREZ | LUIS
PERSON | LISA
PETILLO | JOHN
PETTI | DANA
PHILLIPS | SALLY
PIERCE | JULIA
POSNACK | STEVEN
RICE | GAREY
ROBINSON | WILMA
ROHALL | ANNE
ROSKEY | COLIN
ROWELL | SCOTT
ROYCE | SHANNON
RUCKER | DONALD
SAMPLE | ALLEN
SAUNDERS | MICHAEL
SCHUHAM | AARON
SEVERINO | ROGER
SHUY | BRYAN
SIGOUNAS | GEORGE
SIMCOX | EDWIN
SIMPSON | TODD
SKEADAS | CHRISTOS
STANNARD | PAULA
STEELE | DANIELLE
STIMSON | BRIAN
TOBIAS | CONSTANCE
TRUEMAN | LAURA
VALENTINE | STEVEN
VITEK | TRACI
VOGEL | JANET
WALKER | EDWIN
WEBER | MARK
WILLIAMS | RASHEED
WRIGHT | DONALD
WYNNE | MARGARET

Dated: September 27, 2019.
Diane C. Williamson,
Director, Executive Resources Division.

[FR Doc. 2019-21448 Filed 10-1-19; 8:45 am]

BILLING CODE 4151-17-P